DEPARTMENT OF HEALTH AND HUMAN SERVICES

Office of the Secretary

45 CFR Parts 160 and 162

[HCFA-0149-CN]

RIN 0938-AI58

Health Insurance Reform: Standards for Electronic Transactions; Correction

AGENCY: Office of the Secretary, HHS.

ACTION: Correction of final rule.

SUMMARY: This document corrects technical and typographical errors that appeared in the final rule published in the Federal Register on August 17, 2000, entitled “Health Insurance Reform: Standards for Electronic Transactions” (65 FR 50312). The final rule adopted standards for eight electronic transactions and for code sets to be used in those transactions.

DATES: The effective date of this correction notice is November 24, 2000. The final rule adopted standards for eight electronic transactions and for code sets to be used in those transactions.

FOR FURTHER INFORMATION CONTACT: Joy Glass, (410) 786-6125.

SUPPLEMENTARY INFORMATION: The August 17, 2000 final rule published at 65 FR 50312 (FR Doc. 00-20820) contained technical and typographical errors. Therefore, we are making the following corrections:

1. On page 50312, in the middle column, in the eighteenth and nineteenth lines, “http://www.access.gpo.gov/su-docs/aces/aces140.html” is corrected to read “http://www.access.gpo.gov/su_docs/aces/aces140.html.”

2. On page 50324, in the first column, in the twenty-ninth line, paragraph “6. Proprietary coding systems” is corrected to read, “b. Proprietary coding systems.”

3. On page 50332, in the first column, in the fourth line from the bottom, “276 comments” is corrected to read “267 comments.”

4. On page 50338, in the first column, in the twelfth line, “Title VII” is corrected to read “Title VI.”

5. On page 50358, in Table 4—Ten Year Net Savings, the figure “0.1” for Savings from Manual Transactions for Health Plans in 2007 is corrected to read “0.0.”

6. On page 50361, in the third column, section “N. Transaction Standards” is corrected as follows:

A. Paragraph N.1. is corrected to read as follows:

“Specific Impact of Adoption of the NCPDP Telecommunication Standard Implementation Guide, Version 5 Release 1 and Equivalent Batch Standard Implementation Guide Version 1 Release 0 for the Health Care Claim and Equivalent Encounter Information, Eligibility for a Health Plan, Referral Certification and Authorization, and Coordination of Benefits Transactions.”

B. In paragraph 1.a., in the sixth line, the words “encounter is” are corrected to read “encounter, eligibility, and referral certification and authorization are.”

C. In paragraph 1.a., in the third sentence, the word “claim” is removed.

D. In paragraph 1.b., in the last line of the column, the word “claim” is removed.

Authority: Secs. 1171 through 1179 of the Social Security Act (42 U.S.C. 1320d-1320d-8), as added by sec. 262 of Public Law 104-191, 110 Stat. 2021-2031, and sec. 264 of Pub. L. 104-191, 110 Stat. 2033-2034 (42 U.S.C. 1320d-2 (note)).

(Catalog of Federal Domestic Assistance Program No. 93.774, Medicare—Supplementary Medical Insurance Program)
Dated: November 17, 2000.
Brian P. Burns,
Deputy Assistant Secretary for Information Resources Management.

[FR Doc. 00-29989 Filed 11-22-00; 8:45 am]

BILLING CODE 4120-01-M